DEPARTMENT OF COMMERCE

National Oceanic and Atmospheric Administration

RIN 0648-XW11

Marine Mammals; File No. 14514

AGENCY: National Marine Fisheries Service (NMFS), National Oceanic and Atmospheric Administration (NOAA), Commerce.

ACTION: Notice; receipt of application for permit amendment.

SUMMARY: Notice is hereby given that the University of Florida, Aquatic Animal Program, College of Veterinary Medicine, Gainesville, FL 32610 (Ruth Francis-Floyd, Responsible Party), has requested an amendment to Permit No. 14514 to receive, import, and export marine mammal specimens for scientific research.

DATES: Written, telefaxed, or email comments must be received on or before October 17, 2013.

ADDRESSES: The application and related documents are available for review by selecting “Records Open for Public Comment” from the Features box on the Applications and Permits for Protected Species (APPS) home page, https://apps.nmfs.noaa.gov, and then selecting File No. 14514 from the list of available applications.

These documents are also available upon written request or by appointment in the following offices:

Permits and Conservation Division, Office of Protected Resources, NMFS, 1315 East-West Highway, Room 13705, Silver Spring, MD 20910; phone (301)427-8401; fax (301)713-0376; and

Southeast Region, NMFS, 263 13th Avenue South, Saint Petersburg, FL 33701; phone (727)824-5312; fax (727)824-5309.

Written comments on these applications should be submitted to the Chief, Permits and Conservation Division, at the address listed above. Comments may also be submitted by facsimile to (301)713-0376, or by email to NMFS.Pr1Comments@noaa.gov. Please include the File No. in the subject line of the email comment.

Those individuals requesting a public hearing should submit a written request to the Chief, Permits and Conservation Division at the address listed above. The request should set forth the specific reasons why a hearing on this application would be appropriate.

FOR FURTHER INFORMATION CONTACT: Amy Sloan or Jennifer Skidmore, (301)427-8401.

SUPPLEMENTARY INFORMATION: The subject amendment is requested under the authority of the Marine Mammal Protection Act of 1972, as amended (MMPA; 16 U.S.C. 1361 et seq.), the regulations governing the taking and importing of marine mammals (50 CFR part 216), the Endangered Species Act of 1973, as amended (ESA; 16 U.S.C. 1531 et seq.), the regulations governing the taking, importing, and exporting of endangered and threatened species (50 CFR 222-226), and the Fur Seal Act of 1966, as amended (16 U.S.C. 1151 et seq.).

Permit No. 14514, issued on July 28, 2010 (75 FR 50748), authorizes the University of Florida to receive, import, and export marine mammal parts under NMFS jurisdiction for research on disease including viral pathogens and brevetoxin studies; development of a marine mammal histology database and atlas and marine mammal cell lines; and comparative morphology studies. The permit authorizes receipt, import, and export of marine mammal parts (hard and soft parts) from up to 200 animals per year within the order Cetacea (dolphins, porpoises and whales) and 100 animals per year within the order Pinnipedia (sea lions and seals but excluding walruses). The permit expires July 31, 2015. The permit holder is requesting the permit be amended to increase the number of animals from which pinniped samples may be received, imported, or exported from 100 to 700 animals per year for additional studies on viral pathogens (adenovirus and herpesvirus). The permit holder also requests personnel changes.

In compliance with the National Environmental Policy Act of 1969 (42 U.S.C. 4321 et seq.), an initial determination has been made that the activities proposed are categorically excluded from the requirement to prepare an environmental assessment or environmental impact statement.

Dated: September 12, 2013.
P. Michael Payne,
Chief, Permits and Conservation Division, Office of Protected Resources, National Marine Fisheries Service.

[FR Doc. 2013-22537 Filed 9-16-13; 8:45 am]

BILLING CODE 3510-22-P